DEPARTMENT OF LABOR

Office of the Secretary

Job Corps: Final Finding of No Significant Impact (FONSI) for Small Vertical Wind Turbine and Solar Installation at the Paul Simon Job Corps Center Located at 3348 South Kedzie Avenue, Chicago, IL 60623

AGENCY: Office of the Secretary (OSEC), Department of Labor.

ACTION: Notice of final finding of no significant impact.

SUMMARY: Pursuant to the Council on Environmental Quality Regulations (40 CFR part 1500-08) implementing procedural provisions of the National Environmental Policy Act (NEPA), the Department of Labor, Office of the Secretary (OSEC), in accordance with 29 CFR 11.11(d), gives final notice of the proposed construction of a small vertical axis wind turbine and solar cells at the Paul Simon Job Corps Center, and that this project will not have a significant adverse impact on the environment. In accordance with 29 CFR 11.11(d) and 40 CFR 1501.4(e)(2), a preliminary Environmental Assessment was presented through a public meeting held on 5/4/2010 at the Paul Simon Job Corps Center. No comments were received regarding the Environmental Assessment (EA). OSEC has reviewed the conclusion of the EA, and agrees with the finding of no significant impact. This notice serves as the Final Finding of No Significant Impact (FONSI) for Small Vertical Wind Turbine and Solar Installation at the Paul Simon Job Corps Center located at 3348 South Kedzie Avenue, Chicago, IL 60623. The preliminary EA are adopted in final with no change.

Dated: May 10, 2010.
Edna Primrose,
National Director of Job Corps.

[FR Doc. 2010-11662 Filed 5-14-10; 8:45 am]

BILLING CODE P